NATIONAL SCIENCE FOUNDATION

Advisory Committee for Computer and Information Science and Engineering Notice of Meeting

In accordance with Federal Advisory Committee Act (Pub. L. 92-463, as amended), the National Science Foundation announces the following meeting:

NAME: Advisory Committee for Computer and Information Science and Engineering (1115)

DATE/TIME: January 14, 2014, 3:00 p.m. to 5:00 p.m.

PLACE: National Science Foundation, 4201 Wilson Boulevard, Room 375, Arlington, Virginia 22203

TYPE OF MEETING: Open

CONTACT PERSON: Carmen Whitson, National Science Foundation, 4201 Wilson Boulevard, Suite 1105, Arlington, Virginia 22203 703/292-8900

PURPOSE OF MEETING: To advise NSF on the impact of its policies, programs and activities on the CISE community. To provide advice to the Assistant Director for CISE on issues related to long-range planning, and to form ad hoc subcommittees and working groups to carry out needed studies and tasks.

AGENDA: • CISE programmatic updates

• Update from Advisory Committee subcommittees

• Status of Fiscal Year 2014 activities

• Closing remarks and wrap up

Dated: December 20, 2013.
Susanne Bolton,
Committee Management Officer.

[FR Doc. 2013-30911 Filed 12-26-13; 8:45 am]

BILLING CODE 7555-01-P